DEPARTMENT OF AGRICULTURE

Animal and Plant Health Inspection Service

[Docket No. APHIS-2010-0050]

Animal Traceability; Public Meetings

AGENCY: Animal and Plant Health Inspection Service, USDA.

ACTION: Notice of public meetings.

SUMMARY: This is a notice to inform the public of upcoming meetings in Madison, WI, Atlanta, GA, and Pasco, WA, to provide an opportunity for stakeholders to offer their input on the new framework being developed for animal disease traceability. The meetings are being organized by the Animal and Plant Health Inspection Service.

DATES: The meetings will be held on August 18, 2010, from 10 a.m. to 4 p.m., and August 20, and 24, 2010, from 8 a.m. to 4 p.m. each day.

ADDRESSES: The public meeting on August 18, 2010, will be held at the Crowne Plaza Madison, 4402 East Washington Avenue, Madison, WI 53704. The public meeting on August 20, 2010, will be held at the Doubletree Hotel Atlanta Airport, 3400 Norman Berry Drive, Atlanta, GA 30344. The public meeting on August 24, 2010, will be held at the Red Lion Hotel, 2525 North 20th Avenue, Pasco, WA 99301.

FOR FURTHER INFORMATION CONTACT: Mr. Neil Hammerschmidt, Program Manager, Animal Disease Traceability, VS, APHIS, 4700 River Road Unit 46, Riverdale, MD 20737-1231; (301) 734-5571.

SUPPLEMENTARY INFORMATION: The U.S. Department of Agriculture (USDA) is currently developing a new, flexible framework for animal disease traceability in the United States. In keeping with its commitment to partnering with States, Tribal Nations, and industry to address many of the details of the infrastructure of this program, including possible regulations, the USDA took the initial step of hosting a State/Tribal forum on animal disease traceability in Kansas City, MO, on March 18 and 19, 2010. Information on the proceedings of the State/Tribal forum is available to the public for review and comment at (http://www.aphis.usda.gov/traceability/forum/index.shtml). In addition, we hosted several public meetings to discuss animal disease traceability. The meetings took place in Kansas City, MO, Riverdale, MD, Denver, CO, Salt Lake City, UT, and Fort Worth, TX, on May 11, May 13, May 17, June 24, and July 1, 2010, respectively. We are now planning to host three additional public meetings, which will take place in Madison, WI, on August 18, 2010, Atlanta, GA, on August 20, 2010, and Pasco, WA, on August 24, 2010 (see ADDRESSES).

Tentative topics to be discussed at the upcoming meetings include:

1. The framework for a proposed animal disease traceability rule.

2. Specific details that would help form the animal disease traceability rule.

Written statements on meeting topics, as well as on the proceedings of the March 2010 State/Tribal forum, may be filed with the USDA through August 30, 2010, via the Federal eRulemaking Portal at (http://www.regulations.gov/fdmspublic/component/main?main=DocketDetail&d=APHIS-2010-0050) or by sending them to the person listed under FOR FURTHER INFORMATION CONTACT. Please refer to Docket No. APHIS-2010-0050 when submitting your statements.

Done in Washington, DC, this 3rd day of August 2010.

Gregory Parham
Acting Administrator, Animal and Plant Health Inspection Service.

[FR Doc. 2010-19565 Filed 8-6-10: 8:45 am]

BILLING CODE: 3410-34-S